NATIONAL SCIENCE FOUNDATION

Notice of Availability and Notice of Public Meetings for the Draft Environmental Impact Statement (DEIS) for the Arecibo Observatory, Arecibo, Puerto Rico

AGENCY: National Science Foundation.

ACTION: Notice of Availability and Notice of Public Meetings.

SUMMARY: The National Science Foundation (NSF) has made available for public review and comment the Draft Environmental Impact Statement (DEIS) for Arecibo Observatory. This Draft Environmental Impact Statement (DEIS) has been prepared for the National Science Foundation (NSF) to evaluate the potential environmental effects of proposed operational changes due to funding constraints for the Arecibo Observatory in Arecibo, Puerto Rico. The DEIS was prepared in compliance with the National Environmental Policy Act of 1969. Consultation under Section 106 of the National Historic Preservation Act (NHPA) is being conducted concurrent to the NEPA process.

DATES: NSF will accept comments on the DEIS for 45 days following publication of this Notice of Availability. Comments may be submitted verbally during public meetings scheduled for November 16-17 (see SUPPLEMENTARY INFORMATION for more details) or in writing. Substantive comments will be addressed in a Final Environmental Impact Statement (FEIS).

ADDRESSES: You may submit comments by either of the following methods:

• Email to: envcomp-AST@nsf.gov with subject line “Arecibo Observatory”

• Mail to: Ms. Elizabeth Pentecost, RE: Arecibo Observatory, National Science Foundation, Suite 1045, 4201 Wilson Blvd., Arlington, VA 22230.

EIS Information: The DEIS, as well as information about the public meetings, is posted at www.nsf.gov/AST. A Spanish translation of the Executive Summary of the DEIS will be posted to the Web site.

A copy of the DEIS will be available for review at the following libraries in Puerto Rico:

Biblioteca Electrónica Pública Municipal Nicolás Nadal Barreto, 210 Calle Santiago Iglesias, Arecibo, PR, Phone: (787) 878-1178

Archivo General y Biblioteca Nacional de PR, 500 Avenida Juan Ponce De León, San Juan, PR, Phone: (787) 725-1060 ext. 2001

FOR FURTHER INFORMATION CONTACT: For further information regarding the EIS process or Section 106 consultation, please contact: Ms. Elizabeth Pentecost, National Science Foundation, Division of Astronomical Sciences, Suite 1045, 4201 Wilson Blvd., Arlington, VA 22230; telephone: (703) 292-4907; email: epenteco@nsf.gov.

SUPPLEMENTARY INFORMATION: The Arecibo Observatory is an NSF-owned scientific research and education facility located in Puerto Rico. In 2011, NSF awarded a Cooperative Agreement to SRI International (SRI), which together with Universities Space Research Association (USRA) and Universidad Metropolitana (UMET) formed the Arecibo Management Team to operate and maintain the Arecibo Observatory for the benefit of research communities. The initial 5-year period of performance of the Cooperative Agreement has recently been extended 18 months, to 31 March 2018. Arecibo Observatory enables research in three scientific disciplines: Space and atmospheric sciences, radio astronomy, and solar system radar studies; the last of these is largely funded through a research award to USRA from the National Aeronautics and Space Administration. An education and public outreach program complements the Arecibo Observatory scientific program. A key component of the Arecibo Observatory research facility is a 305-meter diameter, fixed, spherical reflector. Arecibo Observatory infrastructure includes instrumentation for radio and radar astronomy, ionospheric physics, office and laboratory buildings, a heavily utilized visitor and education facility, and lodging facilities for visiting scientists.

Through a series of academic community-based reviews, NSF has identified the need to divest of several facilities from its portfolio in order to retain the balance of capabilities needed to deliver the best performance on the key science of the present decade and beyond. In 2012, NSF's Division of Astronomical Sciences' (AST's) portfolio review committee recommended that “continued AST involvement in Arecibo . . . be re-evaluated later in the decade in light of the science opportunities and budget forecasts at that time. In 2016, NSF's Division of Atmospheric and Geospace Sciences' (AGS') portfolio review committee recommended significantly decreasing funding for the Space and Atmospheric Sciences portion of the Arecibo mission. In response to these evolving recommendations, in 2016, NSF completed a feasibility study to inform and define options for the observatory's future disposition that would involve significantly decreasing or eliminating NSF funding of Arecibo. Concurrently, NSF sought viable concepts of operations from the scientific community via a Dear Colleague Letter NSF 16-005 (see www.nsf.gov/AST), with responses due in January 2016. NSF issued a Notice of Intent to prepare an EIS on May 23, 2016, held scoping meetings on June 7, 2016 and held a 30-day public comment period that closed on June 23, 2016. In October 2016, NSF issued Dear Colleague Letter NSF 16-144 (see www.nsf.gov/AST) to notify the Observatory stakeholder community that NSF intends to issue a follow-up solicitation, requesting the submission of formal proposals involving the continued operation of Arecibo Observatory. The intent of this solicitation will be to input additional information into the decision process for the ultimate disposition of Arecibo Observatory.

Proposed Alternatives to be analyzed in the DEIS include:

• Continued NSF investment for science-focused operations (No-Action Alternative).

• Collaboration with interested parties for continued science-focused operations (Agency Preferred Alternative).

• Collaboration with interested parties for transition to education-focused operations.

• Mothballing of facilities (suspension of operations in a manner such that operations could resume efficiently at some future date).

• Partial deconstruction and site restoration.

• Full deconstruction and site restoration.

No final decisions will be made regarding the proposed changes to operations at Arecibo Observatory prior to issuance of a Final Environmental Impact Statement and, subsequently, a Record of Decision for the Proposed Action.

Public Meetings: Public meetings to address the DEIS will take place in Puerto Rico with notification of the times and locations published in the local newspapers, as follows:

(1) Colegio de Ingenieros y Agrimensores de Puerto Rico/Puerto Rico Professional College of Engineers and Land Surveyors (Arecibo Chapter), Ave. Manuel T. Guillan Urdaz, Conector 129 Carr. 10, Arecibo, Puerto Rico, Phone: (787) 758-2250, November 16, 6:00 p.m. to 8:00 p.m.

(2) Doubletree by Hilton Hotel San Juan, 105 Avenida De Diego, San Juan, PR, Phone: (787) 721-6500, November 17, from 10:00 a.m. to 12:00 p.m.

The meetings will be transcribed by a court reporter. Spanish language translation will be provided. Please contact NSF at least one week in advance of the meeting if you would like to request special accommodations (i.e., sign language interpretation, etc.).

A separate consultation meeting, pursuant to Section 106 of the NHPA, will be held from 1:00 p.m. to 2:30 p.m. at the Doubletree by Hilton Hotel San Juan, 105 Avenida De Diego, San Juan, PR on November 17, 2016, beginning one hour after the public meeting on the DEIS. All persons and entities that are consulting parties or are interested in becoming consulting parties are invited to attend. Spanish language translation will also be provided for this meeting.

Dated: October 24, 2016.
Suzanne H. Plimpton,
Reports Clearance Officer, National Science Foundation.

[FR Doc. 2016-26061 Filed 10-27-16; 8:45 am]

BILLING CODE 7555-01-P